EXPORT-IMPORT BANK OF THE UNITED STATES

[Public Notice: 2013-0101]

Application for Final Commitment for a Long-Term Loan or Financial Guarantee in Excess of $100 Million: AP078595XX, AP078595XA, AP078595XB

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction.

Reference: AP078595XX, AP078595XA, AP078595XB.

Purpose and Use

Brief description of the purpose of the transaction:

To support the export of U.S. manufactured commercial aircraft to South Korea.

Brief non-proprietary description of the anticipated use of the items being exported:

To be used for long-haul passenger and cargo air service between South Korea and other countries.

To the extent that Ex-Im Bank is reasonably aware, the item(s) being exported may be used to produce exports or provide services in competition with the exportation of goods or provision of services by a United States industry.

Parties

Principal Supplier: The Boeing Company.

Obligor: Korean Air Lines.

Guarantor(s): N/A.

Description of Items Being Exported

Boeing 777 aircraft and Boeing 747 aircraft.

Information on Decision: Information on the final decision for this transaction will be available in the “Summary Minutes of Meetings of Board of Directors” on http://www.exim.gov/articles.cfm/board%20minute.

Confidential Information: Please note that this notice does not include confidential or proprietary business information; information which, if disclosed, would violate the Trade Secrets Act; or information which would jeopardize jobs in the United States by supplying information that competitors could use to compete with companies in the United States.

DATES: Comments must be received on or before February 8, 2013 to be assured of consideration before final consideration of the transaction by the Board of Directors of Ex-Im Bank.

ADDRESSES: Comments may be submitted through Regulations.gov at www.regulations.gov. To submit a comment, enter EIB-2013-0002 under the heading “Enter Keyword or ID” and select Search. Follow the instructions provided at the Submit a Comment screen. Please include your name, company name (if any) and EIB-2013-0002 on any attached document.

Sharon A. Whitt,
Records Clearance Officer.

[FR Doc. 2013-00534 Filed 1-11-13; 8:45 am]

BILLING CODE 6690-01-P